ENVIRONMENTAL PROTECTION AGENCY

[EPA-HQ-OPP-2022-0223; FRL-11967-01-OCSPP]

Final Cancellation Order for Cancelling Certain Pesticide Registrations and Uses

AGENCY: Environmental Protection Agency (EPA).

ACTION: Notice.

SUMMARY: The Environmental Protection Agency (EPA or “Agency”) hereby announces its final cancellation order for the cancellations and amendments to terminate uses voluntarily requested by the registrants and accepted by the Agency, of the products in Table 1 and Table 2 of Unit II., pursuant to the Federal Insecticide, Fungicide, and Rodenticide Act (FIFRA). This final cancellation order follows a June 9, 2023, Federal Register Notice of Receipt of Requests from the registrants in Table 3 of Unit II. to voluntarily cancel or amend these product registrations. In the June 9, 2023, notice, EPA indicated that it would issue a final cancellation order implementing the cancellations, unless the Agency received substantive comments within the comment period that would merit further review of these requests, or unless the registrants withdrew their requests. The Agency received five comments on the notice, which are summarized in Unit III.B. The registrants did not withdraw their requests for these voluntary cancellations and amendments. Accordingly, EPA hereby grants the requested cancellations and amendments to terminate uses as shown in this cancellation order. Any distribution, sale, or use of existing stocks of these products subject to this cancellation order is permitted only in accordance with the terms of this order.

DATES: The cancellations and amendments are effective June 24, 2024.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2022-0223, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744. Please review the additional information about the docket available at https://www.epa.gov/dockets.

II. What action is the Agency taking?

This document announces the cancellations and amendments through termination of certain uses, as requested by registrants, of products registered under FIFRA section 3 (7 U.S.C. 136a). These registrations are listed in sequence by registration number in Table 1 and Table 2 of this unit.

Table 1—Chlorpyrifos Registrations With Specific Uses That Are Terminated
Registration No. | Product name | Company | Uses that are deleted
93182-3 | Chlorpyrifos Technical | Gharda Chemicals International, Inc | Alfalfa (except in AZ, CO, IA, ID, IL, KS, MI, MN, MO, MT, ND, NE, NM, NV, OK, OR, SD, TX, UT, WA, WI, WY), banana, blueberry, caneberry, cherimoya, citrus fruits (except in AL, FL, GA, NC, SC, TX), corn, cotton (except in AL, FL, GA, NC, SC, VA), cranberries, cucumber, date, feijoa, figs, grapes, kiwifruit, leek, legume vegetables (except soybean), mint, onions (dry bulb), pea, peanuts, pepper, pumpkin, sweet potatoes, sugarcane, sorghum, soybeans (except in AL, CO, FL, GA, IA, IL, IN, KS, KY, MN, MO, MT, NC, ND, NE, NM, OH, OK, PA, SC, SD, TN, TX, VA, WI, WV, WY), sunflowers, sugar beets (except in IA, ID, IL, MI, MN, ND, OR, WA, WI), strawberries (except in OR), tree fruit (apples [except in AL, DC, DE, GA, ID, IN, KY, MD, MI, NJ, NY, OH, OR, PA, TN, VA, VT, WA, WV], cherries [except tart cherries in MI], peaches [except in AL, DC, DE, FL, GA, MD, MI, NC, NJ, NY, OH, PA, SC, TX, VA, VT, WV] and nectarines), pears, plums/prunes, tree nuts (almonds, filberts, pecans and walnuts), vegetables (cauliflower, broccoli, Brussels sprouts, cabbage, collards, kale, kohlrabi, turnips, radishes, and rutabagas), and wheat (except spring wheat in CO, KS, MO, MT, ND, NE, SD, WY and winter wheat in CO, IA, KS, MN, MO, MT, ND, NE, OK, SD, TX, WY).
93182-7 | Pilot 4E Chlorpyrifos Agricultural Insecticide | Gharda Chemicals International, Inc | Alfalfa (except in AZ, CO, IA, ID, IL, KS, MI, MN, MO, MT, ND, NE, NM, NV, OK, OR, SD, TX, UT, WA, WI, WY), apple (except in AL, DC, DE, GA, ID, IN, KY, MD, MI, NJ, NY, OH, OR, PA, TN, VA, VT, WA, WV), asparagus, brassica (cole) leafy vegetables, broccoli, broccoli rabe, Brussels sprouts, cabbage, cauliflower, cavalo broccoli, Chinese broccoli, Chinese cabbage, collards, kale, kohlrabi, mizuna, mustard greens, mustard spinach, rape greens, radish, rutabaga, turnip, citrus fruits and citrus orchard floors (except in AL, FL, GA, NC, SC, TX), corn (field corn and sweet corn, including corn grown for seed), cotton (except in AL, FL, GA, NC, SC, VA), cranberries, figs, grape, legume vegetables (succulent or dried, adzuki bean, asparagus bean, bean, blackeyed pea, broad bean (dry and succulent), catjang, chickpea, Chinese longbean, cowpea, crowder pea, dwarf bean, edible pod pea, English pea, fava bean, field bean, field pea, garbanzo bean, garden pea, grain lupin, green pea, guar, hyacinth bean, jackbean, kidney bean, lablab bean, lentil, lima bean (dry and green), moth bean, mung bean, navy bean, pea, pigeon pea, pinto bean, rice bean, runner bean, snap bean, snow pea, southern pea, sugar snap pea, sweet lupin, tepary bean, urd bean, white lupin, white sweet lupin, yardlong bean), onions (dry bulb), peanut, pear, peppermint and spearmint, sorghum—grain sorghum (milo), soybean (except in AL, CO, FL, GA, IA, IL, IN, KS, KY, MN, MO, MT, NC, ND, NE, NM, OH, OK, PA, SC, SD, TN, TX, VA, WI, WV, WY), strawberry (except in OR), sugar beet (except in IA, ID, IL, MI, MN, ND, OR, WA, WI), sunflower, sweet potato, almond, walnut (dormant/delayed dormant sprays), tree fruits (except apple, peaches, and cherries) and almond, tree nuts (foliar sprays), tree nut orchard floors, wheat (except spring wheat in CO, KS, MO, MT, ND, NE, SD, WY and winter wheat in CO, IA, KS, MN, MO, MT, ND, NE, OK, SD, TX, WY), cherries (except tart cherries in MI), nectarine, plum, prune, peaches (except in AL, DC, DE, FL, GA, MD, MI, NC, NJ, NY, OH, PA, SC, TX, VA, VT, WV).
93182-8 | Pilot 15G Chlorpyrifos Agricultural Insecticide | Gharda Chemicals International, Inc | Citrus and citrus orchard floors (except in AL, FL, GA, NC, SC, TX), Cole crops (Brassica) leafy vegetables: (Bok choy, broccoli, Brussels sprouts, cabbage, Chinese cabbage, cauliflower, collards, kale, kohlrabi, broccoli rabe, Chinese broccoli), onions (dry bulb), radishes, rutabagas, sweet potatoes, corn, alfalfa (except in AZ, CO, IA, ID, IL, KS, MI, MN, MO, MT, ND, NE, NM, NV, OK, OR, SD, TX, UT, WA, WI, WY), sorghum—grain sorghum (milo), soybeans (except in AL, CO, FL, GA, IA, IL, IN, KS, KY, MN, MO, MT, NC, ND, NE, NM, OH, OK, PA, SC, SD, TN, TX, VA, WI, WV, WY), peanuts, sugar beets (except in IA, ID, IL, MI, MN, ND, OR, WA, WI), turnips, and sunflowers.

Table 2—Chlorpyrifos Product Cancellations
Registration No. | Company No. | Product name | Active ingredients
62719-72 | 62719 | Dursban 50W in Water Soluble Packets | Chlorpyrifos.

Table 3—Registrants Requesting Voluntary Cancellation and/or Termination of Chlorpyrifos Uses
EPA Company No. | Company name and address
62719 | Corteva Agriscience, LLC, 9330 Zionsville Road, Indianapolis, IN 46268.
93182 | Gharda Chemicals International, Inc., 4032 Crockers Lake Blvd., Suite 818, Sarasota, FL 34238.

III. Public Comments

A. Brief History

EPA issued a rule in the Federal Register on August 30, 2021 (86 FR 48315) (FRL-5993-04-OCSPP) revoking chlorpyrifos tolerances on the grounds that they were not safe (the “Final Rule”). Pursuant to the procedures set forth in FFDCA section 408(g)(2), objections to, requests for evidentiary hearings on those objections, and/or requests for a stay of the Final Rule were filed on or before the close of the objections period on October 29, 2021. EPA issued an Order published in the Federal Register on February 28, 2022 (87 FR 11222) (FRL-5993-05-OCSPP), denying all objections to the Final Rule and requests for hearing on those objections, as well as requests for stay of the Final Rule (the “Denial Order”).

Since the objections process did not result in any changes to the Final Rule, chlorpyrifos tolerances expired on February 28, 2022, under the terms of the Final Rule. Once the tolerances expired, use of pesticide products containing chlorpyrifos on food or feed crops would result in adulterated food, which cannot be sold in interstate commerce. After EPA alerted registrants of chlorpyrifos products of the lack of tolerances and the options for their products, several registrants submitted requests to voluntarily cancel their registered chlorpyrifos products or amend their chlorpyrifos pesticide products to remove food uses. The registrants identified in Table 3 of Unit II, among others, submitted such requests. Notice of EPA's receipt of these requests was published for comment in the Federal Register on June 9, 2023 (88 FR 37875) (FRL-11017-01-OCSPP). The registrants did not waive the 180-day comment period for these voluntary requests, and, as a result, the comment period had a closing date of December 6, 2023.

The Final Rule was challenged by Gharda and multiple grower groups in the U.S. Court of Appeals for the Eighth Circuit. On November 2, 2023, the Eighth Circuit issued a decision vacating the Final Rule and remanding the matter to EPA for further proceedings. On December 28, 2023, the Eighth Circuit's opinion became effective; accordingly, all chlorpyrifos tolerances vacated by the Final Rule were reinstated. On February 5, 2024, EPA issued a Federal Register notice to amend the Code of Federal Regulations to reflect the court's reinstatement of those tolerances (89 FR 7625) (FRL-5993-06-OCSPP). At this time, all the chlorpyrifos tolerances in effect prior to the Final Rule have been reinstated and are currently in effect.

After requests from Gharda and multiple grower groups to extend the public comment period due to the Eighth Circuit decision, on December 6, 2023, EPA extended the comment period for the requests at issue in this notice for an additional 42 days. EPA again extended the comment period on January 17, 2024, for an additional 30 days. Following these extensions, the comment period ended on February 16, 2024.

B. Summary of Comments Received

During the extended public comment period, EPA received five public comments in response to the June 9, 2023, notice. The comments can be found in the docket for this action and are briefly summarized here.

Two comments were submitted by a private citizen in support of banning chlorpyrifos, and one comment was submitted anonymously by a private citizen generally supporting the cancellation of the pesticide. These three comments were not specific to either of the registrant requests being finalized by this order. Two public comments were submitted by a representative for multiple grower groups, including Red River Valley Sugarbeet Growers Association, U.S. Beet Sugar Association, American Sugarbeet Growers Association, Southern Minnesota Beet Sugar Cooperative, American Crystal Sugar Company, Minn-Dak Farmers Cooperative, American Farm Bureau Federation, American Soybean Association, Iowa Soybean Association, Minnesota Soybean Growers Association, Missouri Soybean Association, Nebraska Soybean Association, South Dakota Soybean Association, North Dakota Soybean Growers Association, National Association of Wheat Growers, Cherry Marketing Institute, Florida Fruit and Vegetable Association, and Georgia Fruit and Vegetable Growers Association, and National Cotton Council of America (“grower groups”).

One of the comments submitted by the grower groups requested an extension of the comment period. The other comment from this group expressed support for EPA's plans (not at issue in this order) to revoke all chlorpyrifos tolerances other than those for the 11 crops referenced in the Agency's December 2020 Chlorpyrifos Proposed Interim Decision (PID). The grower groups also expressed concern for ensuring that Gharda's products would be available for use in the 2024 growing season. The grower groups requested that their input be considered regarding label changes for those 11 crops. The grower groups also requested that no additional changes (e.g., application rate reductions) to the labels of chlorpyrifos products be made until after EPA completes its evaluation and rulemaking process to modify the tolerances, in order to reduce confusion and uncertainty for growers in the upcoming growing season.

C. EPA Response to Comments

Regarding the comments submitted by the grower groups, the termination of food uses and cancellation of products included in the notice of June 9, 2023, were voluntarily requested by the registrants, which is permissible at any time pursuant to FIFRA section 6(f)(1). After the Eighth Circuit decision, the registrants affirmed their interest in moving forward with their pending cancellation requests; no requests were withdrawn. In this final cancellation order, EPA is fulfilling these requests from the registrants. The terms for sale, distribution, and use of the existing stocks of the products identified in Tables 1 and 2 of this order are included in Section VI of this cancellation order. Since the tolerances for chlorpyrifos are in place, use of chlorpyrifos products on crops consistent with label directions will not result in adulterated food.

In response to the grower group's comment requesting an opportunity to provide input to the label revisions and requesting that no other label changes be approved until after EPA completes its evaluation and rulemaking process to modify the tolerances, these comments are relevant to a label amendment process that is outside the scope of this cancellation order. Nevertheless, as a matter of transparency, EPA notes that it is currently working with the registrants to remove all food uses from the labels of chlorpyrifos products, except for the 11 food uses discussed in the 2020 Proposed Interim Registration Review Decision (PID) for chlorpyrifos. As discussed in the supporting documents, those 11 remaining uses need to be limited to certain geographic areas, application rates, and numbers of applications based on the 2020 Updated Drinking Water Assessment, the 2020 Human Health Risk Assessment, and the 2020 PID.

IV. The Cancellation Order

Pursuant to FIFRA section 6(f) (7 U.S.C. 136d(f)(1)), EPA hereby approves the requested amendments to terminate uses and cancellation of the registration identified in Table 1 and Table 2 of Unit II., respectively. Accordingly, the Agency hereby orders that the uses identified for the products listed in Table 1 of Unit II. are terminated and the product registration identified in Table 2 of Unit II. is cancelled.

The cancellations and amendments addressed in this Order are effective June 24, 2024. Any distribution, sale, or use of existing stocks of the products identified in Tables 1 and 2 of Unit II in a manner inconsistent with any of the provisions for disposition of existing stocks set forth in Unit VI will be a violation of FIFRA.

V. What is the Agency's authority for taking these actions?

FIFRA section 6(f)(1) (7 U.S.C. 136d(f)(1)) provides that a registrant of a pesticide product may at any time request that any of its pesticide registrations be cancelled or amended to terminate one or more registered uses. FIFRA further provides that, before acting on the request, EPA must publish a notice of receipt of any such request in the Federal Register.

FIFRA section 6(f)(1)(B) (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrant requests a waiver of the comment period, or

2. The EPA Administrator determines that continued use of the pesticide would pose an unreasonable adverse effect on the environment.

Because no such requests or determinations were made, EPA provided a 180-day comment period with additional time extensions. Comments were submitted to which EPA has responded above.

VI. Provisions for Disposition of Existing Stocks

A. Products Listed in Table 1 of Unit II

Existing stocks for the products identified in this document are those stocks of registered pesticide products that are currently in the United States and that were packaged, labeled, and released for shipment prior to the effective date of the cancellation action. EPA has determined that the following existing stocks provisions are not inconsistent with the purposes of FIFRA given the limited amount of existing stocks and the limited time allowed for use of the existing stocks outlined below:

• Sale and distribution of existing stocks of Chlorpyrifos Technical (EPA Reg. No. 93182-3) is permitted until June 30, 2024.

• Sale and distribution of existing stocks of Pilot 4E Chlorpyrifos Agricultural Insecticide (EPA Reg. No. 93182-7) and Pilot 15G Chlorpyrifos Agricultural Insecticide (EPA Reg. No. 93182-8) is permitted until April 30, 2025.

• Use of existing stocks of Pilot 4E Chlorpyrifos Agricultural Insecticide (EPA Reg. No. 93182-7) and Pilot 15G Chlorpyrifos Agricultural Insecticide (EPA Reg. No. 93182-8) on food, food processing sites, and food manufacturing sites must be consistent with the product labeling. Such use is permitted until June 30, 2025.

• Use of existing stocks of Pilot 4E Chlorpyrifos Agricultural Insecticide (EPA Reg. No. 93182-7) and Pilot 15G Chlorpyrifos Agricultural Insecticide (EPA Reg. No. 93182-8) for non-food purposes is permitted until existing stocks are exhausted, as long as such use is in accordance with the labeling.

After these dates, all respective sale, distribution, and use of existing stocks is prohibited, except for sale and distribution for export consistent with FIFRA section 17 (7 U.S.C. 136o) and for proper disposal.

B. Product Listed in Table 2 of Unit II

The product listed in Table 2 of Unit II bears labeling only for non-food use. Therefore, EPA is allowing sale and distribution of existing stocks of that product for one year after publication of the cancellation order. Thereafter, sale and distribution of existing stocks of the product will be prohibited, except for export consistent with FIFRA section 17 (7 U.S.C. 136o), or for proper disposal in accordance with state regulations.

Use of existing stocks is permitted until such stocks are exhausted, provided that use is consistent with the terms of the previously approved labeling on, or that accompanied, the cancelled products.

Authority: 7 U.S.C. 136 et seq.

Dated: June 17, 2024.
Jean Overstreet,
Director, Pesticide Re-Evaluation Division, Office of Pesticide Programs.

[FR Doc. 2024-13779 Filed 6-21-24; 8:45 am]

BILLING CODE 6560-50-P